DEPARTMENT OF ENERGY

Federal Energy Regulatory Commission

[Project No. 516-470]

South Carolina Electric & Gas Company; Notice of Application for Amendment of License and Soliciting Comments, Motions To Intervene, and Protests

Take notice that the following hydroelectric application has been filed with the Commission and is available for public inspection:

a. Type of Application: Non-project use of project lands and waters.

b. Project No: 516-470.

c. Date Filed: August 9, 2011.

d. Applicant: South Carolina Electric & Gas Company.

e. Name of Project: Saluda Hydroelectric Project.

f. Location: The project is located on the Saluda River in Lexington, Newberry, Richland, and Saluda counties, South Carolina. The proposed action would occur on Lake Murray in Lexington County, South Carolina.

g. Pursuant to: Federal Power Act, 16 U.S.C. 791a-825r.

h. Applicant Contact: Mr. Tommy Boozer, Manager, Lake Management Programs, South Carolina Electric & Gas Company, 6248 Bush River Road, Columbia, SC 29212, telephone 803-217-9007.

i. FERC Contact: Any questions on this notice should be addressed to Lorance Yates at 678-245-3084 or e-mail: lorance.yates@ferc.gov.

j. Deadline for filing comments and or motions: September 22, 2011.

Comments, protests, and interventions may be filed electronically via the Internet in lieu of paper. See 18 CFR 385.2001(a)(1)(iii) and the instructions on the Commission's Web site (http://www.ferc.gov) under the “e-filing” link. The Commission strongly encourages electronic filings.

All documents (original and eight copies) filed by paper should be sent to: Secretary, Federal Energy Regulatory Commission, 888 First Street, NE., Washington, DC 20426. Please include the project number (P-516-470) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Application: The licensee proposes to permit the Columbia Sailing Club to use project lands and water to modify an existing facility by adding four floating docks and the removal of three existing floating docks on Lake Murray. The proposed new structures are for private commercial use by members of the Columbia Sailing Club. Docks will be attached to high ground by walkways and will be installed parallel to the existing boat ramp to facilitate launching. The purpose of the project, as stated by the licensee, is to assist members of the Columbia Sailing Club in boat launching and provide 20 new slips.

l. Locations of the Application: A copy of the application is available for inspection and reproduction at the Commission's Public Reference Room, located at 888 First Street, NE., Room 2A, Washington, DC 20426, or by calling 202-502-8371. This filing may also be viewed on the Commission's Web site at http://www.ferc.gov using the “eLibrary” link. Enter the docket number excluding the last three digits (P-516) in the docket number field to access the document. You may also register online at http://www.ferc.gov/docs-filing/esubscription.asp to be notified via e-mail of new filings and issuances related to this or other pending projects. For assistance, call 1-866-208-3676 or e-mail FERCOnlineSupport@ferc.gov, for TTY, call 202-502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) Bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 23, 2011.
Kimberly D. Bose,
Secretary.

[FR Doc. 2011-21982 Filed 8-26-11; 8:45 am]

BILLING CODE 6717-01-P